CIVIL RIGHTS COLD CASE RECORDS REVIEW BOARD

[Agency Docket Number: CRCCRRB-2025-0003-N]

Notice of Formal Determination on Records Release

AGENCY: Civil Rights Cold Case Records Review Board.

ACTION: Notice.

SUMMARY: The Civil Rights Cold Case Records Review Board received 227 pages of records from the National Archives and Records Administration (NARA) related to a civil rights cold case incident to which the Review Board assigned the unique identifier 2024-003-014. On October 18, 2024, the Review Board determined that 226 pages in full and 1 page in part should be publicly disclosed in the Civil Rights Cold Case Records Collection. The Review Board approved the one postponement proposed by NARA. By issuing this notice, the Review Board complies with section 7(c)(4) of the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case Records Review Board, 1800 F Street NW, Washington, DC 20405, (771) 221-0014, info@coldcaserecords.gov.

SUPPLEMENTARY INFORMATION:

Incident identifier | Postponement identifier | Review board decision
2024-003-014 | 2024-NARA-03-0001 | Approve.

Authority: 44 U.S.C. 2107 (Pub. L. 115-426, 132 Stat. 5489).

Dated: October 24, 2024.
Stephannie Oriabure,
Chief of Staff.

[FR Doc. 2024-25159 Filed 10-29-24; 8:45 am]

BILLING CODE 67820-SY-P